DEPARTMENT OF TRANSPORTATION

Federal Transit Administration

Program Guidance for Metropolitan Planning Program and State Planning and Research Program Grants: Availability of Final Circular

AGENCY: Federal Transit Administration (FTA), U.S. Department of Transportation (DOT).

ACTION: Notice of availability of final circular.

SUMMARY: The FTA has placed on its website final guidance in the form of FTA Circular 8100.1D, “Program Guidance For Metropolitan Planning and State Planning and Research Program Grants.” The final circular updates the Circular 8100.1C, “Program Guidance For Metropolitan Planning and State Planning and Research Program Grants,” to reflect various changes in law and to incorporate provisions of the U.S. Department of Transportation (DOT) regulations, “Uniform Administrative Requirements, Cost Principles, and Audit Requirements for Federal Awards.

DATES: September 10, 2018.

FOR FURTHER INFORMATION CONTACT: Victor Austin, Office of Planning and Environment (TPE), Federal Transit Administration, U.S. Department of Transportation, phone: 202-366-2996, or email victor.austin@dot.gov. Legal questions may be addressed to Helen Serassio, Office of Chief Counsel (TCC), Federal Transit Administration, U.S. Department of Transportation, phone: 202-366-1974, or email helen.serassio@dot.gov.

SUPPLEMENTARY INFORMATION:

Availability of Final Circular

You may download an electronic copy of the circular from FTA's website at http://www.transit.dot.gov. Paper copies of the circular may be obtained by calling FTA's Administrative Services Help Desk at 202-366-4865.

Table of Contents

I. Overview

II. Updates to Circular 8100.1

A. Chapter I—Introduction and Background

B. Chapter II—Metropolitan Planning Program

C. Chapter III—State Planning and Research Programs

D. Chapter IV—Consolidated Planning Grants

E. Chapter V—Application Instructions

F. Appendices

I. Overview

FTA is updating its Program Guidance for Metropolitan Planning and State Planning and Research Program Grants Circular (Circular) to incorporate changes to FTA's programs resulting from enactment of FTA's most recent authorizing legislation, the Fixing America's Surface Transportation (FAST) Act (Pub. L. 114-94, Dec. 4, 2015), as well as the Moving Ahead for Progress in the 21st Century Act (MAP-21) (Pub. L. 112-141, July 6, 2012); promulgation of Department of Transportation (DOT) regulations, “Uniform Administrative Requirements, Cost Principles, and Audit Requirements for Federal Awards,” at 2 CFR part 1201, as well as “Statewide and Nonmetropolitan Transportation Planning; Metropolitan Transportation Planning,” at 23 CFR part 450; and changes in terms as used in FTA's new electronic award and application system, the Transit Award and Management System (TrAMS).

On December 26, 2014, DOT adopted the Office of Management and Budget (OMB) regulatory guidance, “Uniform Administrative Requirements, Cost Principles, and Audit Requirements for Federal Awards” (Uniform Guidance), 2 CFR part 200, now incorporated by reference in DOT regulations, 2 CFR part 1201. The Uniform Guidance streamlines and adds to the guidance formerly found in eight OMB circulars, which have been superseded by 2 CFR part 200. While 2 CFR part 1201 adopts most of the Uniform Guidance, part 1201 does contain several DOT-specific provisions.

DOT regulations, 2 CFR part 1201, apply to any FTA award and any amendments thereto signed by an authorized FTA official on or after December 26, 2014. These regulations supersede 49 CFR part 18, “Uniform Administrative Requirements for Grants and Cooperative Agreements to State and Local Governments,” and 49 CFR part 19, “Uniform Administrative Requirements for Grants and Agreements with Institutions of Higher Education, Hospitals, and Other Non-Profit Organizations,” except that grants and cooperative agreements executed before December 26, 2014, continue to be subject to 49 CFR parts 18 and 19 as in effect on the date of such grants or agreements.

MAP-21 established a performance-based management approach to the statewide and metropolitan transportation planning process to ensure the most efficient investment of Federal transportation funds. Although MAP-21 made several changes to the planning process, the legislation did not make substantive changes to the eligibilities for the Metropolitan Planning Program (MPP). MAP-21 did change the eligibilities of the State Planning and Research Program (SPRP) to include only funds for grants and contracts to carry out 49 U.S.C. 5304, 5305, and 5306.

Sections 5303 and 5304, as amended by the FAST Act, require metropolitan planning organizations (MPOs) and States to develop transportation plans and transportation improvement programs through a performance-driven, outcome-based approach to planning. Under the FAST Act, MPOs continue to develop Unified Planning Work Programs, Metropolitan Transportation Plans, Transportation Improvement Programs, and Public Participation Plans.

On May 27, 2016, FTA and FHWA published in the Federal Register the Final Rule on Statewide and Nonmetropolitan Transportation Planning; Metropolitan Transportation Planning (81 FR 34049), 23 CFR part 450, to implement the changes to the planning process established by MAP-21 and the FAST Act. This Circular uses the joint regulations at 23 CFR part 450 as the foundation for its program guidance.

In addition to addressing changes to Federal law, the final Circular reflects terminology changes for consistency with FTA's new electronic award and management system, TrAMS.

This notice provides a summary of changes to FTA Circular 8100.1, “Program Guidance for Metropolitan Planning and State Planning and Research Program Grants.” Given that this update reflects existing statute and regulations developed with notice and comment, contains no additional interpretation of statute or regulations, and imposes no new requirements on grantees, FTA is not soliciting public comments. The final Circular 8100.1D becomes effective on September 10, 2018 and supersedes Circular 8100.1C.

II. Updates to Circular 8100.1

A. Chapter I—Introduction and Background

Chapter I covers general information regarding FTA, FTA's authorizing legislation, Grants.gov, and how to contact FTA; this chapter also includes definitions and acronyms used in the Circular. In Section 5, FTA added and amended numerous definitions and acronyms to be consistent with other FTA circulars, 49 U.S.C. chapter 53 as amended by the FAST Act and MAP-21, the Uniform Guidance, and TrAMS. For example, TEAM references are replaced by TrAMS references throughout the document. In Section 6, FTA added programmatic changes triggered by MAP-21 and the FAST Act, discussing the performance-based management approach to the statewide and metropolitan transportation planning process.

B. Chapter II—Metropolitan Planning Program

Chapter II provides an overview of the entire MPP with regard to its statutory authority and program goals. It defines the role of the individual States, MPOs, and FTA, and explains the program's relationship to other FTA funded programs. The chapter also provides information on eligible planning activities, steps required in developing a Unified Planning Work Program (UPWP), the MPP assistance formula and notification, the grant agreement, and the administration of MPP grants. In Section 1, FTA added a suggestion that to the extent possible, a single agreement among all responsible parties should be developed. In Section 2, eligible grant activities under the MPP, FTA added “studies relating to . . . performance-based planning, safety, and transit asset management,” “developing and updating the metropolitan planning agreements between the MPO, the State(s), and the providers of public transportation serving the metropolitan planning area,” and “peer reviews and exchanges of . . . performance-based planning.” FTA removed “arts and artistic design” from the list of eligible grant activities to comply with 49 U.S.C. 5323, as amended by the FAST Act. In Section 4, FTA reordered subsections identifying the components of a UPWP. In Section 9, FTA added programs created by MAP-21 and the FAST Act, and removed references to programs repealed by MAP-21 and the FAST Act.

C. Chapter III—State Planning and Research Program

Chapter III provides an overview of the SPRP in terms of its statutory authority and program goals, and explains the program's relationship to and coordination with other FTA-funded programs. The chapter also defines the role of the individual States and FTA, and provides information on eligible grant activities, SPRP assistance formula and notification, and State planning activities. In Section 2, FTA removed “training and educational activities” and “human resource program activities” from the list of eligible grant activities for the SPRP because the statutory basis for their eligibility was removed by MAP-21. In Section 5, FTA added programs created by MAP-21 and the FAST Act, and removed references to programs repealed by MAP-21 and the FAST Act.

D. Chapter IV—Consolidated Planning Grants

Chapter IV provides information on the Consolidated Planning Grant (CPG) Program, a program administered by FTA and FHWA. The CPG Program allows FTA and FHWA funding that supports metropolitan and statewide transportation planning to be combined into a single consolidated grant, which fosters a cooperative effort between the Federal agencies and the participating States to streamline the delivery of their planning programs by providing the flexibility to transfer the planning funds to either FTA or FHWA for processing. In Section 1, FTA clarified that FTA funds used for metropolitan planning in a CPG are allowed to have the same match ratio as the FHWA Metropolitan Planning funds.

E. Chapter V—Application Instructions

Chapter V details the application process of MPOs and States that apply for and receive funds from MPP and SPRP grants. FTA made no substantive changes to this chapter.

F. Appendices

FTA made minor, clarifying edits to the appendices.

Issued in Washington, DC.
K. Jane Williams,
Acting Administrator.

[FR Doc. 2018-17032 Filed 8-8-18; 8:45 am]

BILLING CODE P